DEPARTMENT OF AGRICULTURE

Agricultural Marketing Service

7 CFR Part 932

[Docket No. FV99-932-610 REVIEW]

California Olives; Section 610 Review of Marketing Order

AGENCY: Agricultural Marketing Service, USDA.

ACTION: Review of marketing order; Continuation of regulations.

SUMMARY: This action summarizes the results of an Agricultural Marketing Service (AMS) review of Marketing Order 932 for olives grown in California, under the criteria contained in section 610 of the Regulatory Flexibility Act (RFA).

DATES: Effective: March 27, 2001.

ADDRESSES: Interested persons may obtain a copy of the review. Requests for copies should be sent to the Docket Clerk, Fruit and Vegetable Programs, AMS, USDA, Room 2525-S, Box 96456, Washington, DC 20090-6456; Fax: (202) 720-5698; or E-mail: moab.docketclerk@usda.gov.

FOR FURTHER INFORMATION CONTACT: Kurt Kimmel, Regional Manager, California Marketing Field Office, Marketing Order Administration Branch, Fruit and Vegetable Programs, AMS, USDA, 2202 Monterey Street, Suite 102B, Fresno, California 93721; telephone: (209) 487-5901; Fax: (209) 487-5906; E-mail: Kurt.Kimmel@usda.gov; or George Kelhart, Marketing Order Administration Branch, Fruit and Vegetable Programs, AMS, USDA, room 2525-S, P.O. Box 96456, Washington, DC 20090-6456; telephone: (202) 720-2491; Fax: (202) 720-5698; E-mail: George.Kelhart@usda.gov.

SUPPLEMENTARY INFORMATION: Marketing Order No. 932, as amended (7 CFR Part 932), regulates the handling of olives grown in California. The marketing order is effective under the Agricultural Marketing Agreement Act of 1937 (Act), as amended (7 U.S.C. 601-674).

AMS published in the Federal Register (63 FR 8014; February 18, 1999), its plan to review certain regulations, including Marketing Order No. 932, under criteria contained in section 610 of the Regulatory Flexibility Act (RFA; 5 U.S.C. 601-612). Accordingly, AMS published a notice of review and request for written comments on the California olive marketing order in the August 5, 1999, issue of the Federal Register (64 FR 42619). No written comments were received.

The review was undertaken to determine whether the California marketing order for olives should be continued without change, amended, or rescinded to minimize the impacts on small entities. In conducting this review, AMS considered the following factors: (1) The continued need for the marketing order; (2) the nature of complaints or comments received from the public concerning the marketing order; (3) the complexity of the marketing order; (4) the extent to which the marketing order overlaps, duplicates, or conflicts with other Federal rules, and, to the extent feasible, with State and local governmental rules; and (5) the length of time since the marketing order has been evaluated or the degree to which technology, economic conditions, or other factors have changed in the area affected by the marketing order.

Currently, there are about 1,000 olive growers in California and two handlers processing canned olives under the marketing order.

AMS has determined that the marketing order should be continued without change. The marketing order was established in 1965 to eliminate inconsistencies in and to improve the quality of canned ripe olives in the marketplace, and to assure that the growers are paid a fair return for the olives delivered by them to canners. The marketing order's regulations on the uniform application of size and quality requirements, through third party inspection continue to be beneficial to growers, canners, and end-users.

The AMS has received no complaints about the marketing order regulations. The marketing order is not unduly complex, and AMS has not identified any relevant Federal rules, or State and local regulations that duplicate, overlap, or conflict with the California olive marketing order.

AMS and the California olive industry monitor marketing operations on a continuing basis. Changes in regulations are implemented to reflect current industry operating practices, and to solve marketing problems as they occur. The goal of these evaluations is to assure that the marketing order and the regulations implemented under it fit the needs of the industry and are consistent with the Act.

Over the years, regulation changes have been made to address industry operation changes and to improve program administration.

AMS plans to continue working with the California olive industry in maintaining an effective marketing order program.

Dated: March 21, 2001.
Kenneth C. Clayton,
Acting Administrator, Agricultural Marketing Service.

[FR Doc. 01-7529 Filed 3-26-01; 8:45 am]

BILLING CODE 3410-02-P